NUCLEAR REGULATORY COMMISSION

[Docket Nos. 50-387 and 50-388]

PPL Susquehanna, LLC; Susquehanna Steam Electric Station, Units 1 and 2 Environmental Assessment and Finding of No Significant Impact

The U.S. Nuclear Regulatory Commission (NRC) is considering issuance of amendments to Facility Operating License Nos. NPF-14, and NPF-22, issued to PPL Susquehanna, LLC (the licensee), for operation of Susquehanna Steam Electric Station, Units 1 and 2, located in Luzerne County, Pennsylvania.

EnvironmentaL Assessment

Identification of the Proposed Action

The proposed action would make administrative changes in the Technical Specifications (TSs), correcting the wording of the legends in Figure 3.4.10.1, “Reactor Vessel Pressure vs. Minimum Vessel Temperature,” for both units, and correcting administrative errors in Section 5.6.5.b, regarding the Core Operating Limits Report (COLR), for Unit 2.

The proposed action is in accordance with the application for amendment submitted by PP&L, Inc. (the licensee before July 1, 2000), dated January 13, 2000, as supplemented by letter submitted by PPL Susquehanna, LLC (the licensee on and after July 1, 2000), dated September 6, 2000.

The Need for the Proposed Action

The proposed amendments would revise the wording of parts of the units' TSs, which are currently in error. The proposed amendments involve administrative changes to the TSs only. No actual plant equipment, regulatory requirements, operating practices, or analyses are affected by these proposed amendments.

Environmental Impacts of the Proposed Action

The NRC has completed its evaluation of the proposed action and concludes that there is no significant environmental impact if the amendments are granted. No changes will be made to the design, licensing bases, and applicable procedures at the units. Other than the administrative changes, no other changes will be made to the TSs. Consequently, the action will not increase the probability or consequences of accidents, no changes are being made in the types of any effluents that may be released offsite, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action. Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement related to the Susquehanna Steam Electric Station, Units 1 and 2 dated June 1981.

Agencies and Persons Contacted

In accordance with its stated policy, on February 9, 2001, the staff consulted with the Pennsylvania State official, Mr. Richard Janati, regarding the environmental impact of the proposed amendment. The State official had no comments.

Finding of No Significant Impact

On the basis of the environmental assessment, the NRC concludes that the proposed amendment will not have a significant effect on the quality of the human environment. Accordingly, the NRC has determined not to prepare an environmental impact statement for the proposed action.

For further details with respect to the proposed action, see PP&L, Inc.'s letter dated January 13, 2000, as supplemented by PPL Susquehanna, LLC's letter dated September 6, 2000. Documents may be examined, and/or copied for a fee, at the NRC's Public Document Room, located at One White Flint, 11555 Rockville Pike (first floor), Rockville, Maryland. Publically available documents will be accessible electronically from the ADAMS Public Library component on the NRC Web site http://www.nrc.gov (the Electronic Reading Room).

Dated at Rockville, Maryland, this 23rd day of March 2001.
For the Nuclear Regulatory Commission.
Robert G. Schaaf,
Project Manager, Project Directorate I-1, Division of Licensing Project Management, Office of Nuclear Reactor Regulation.

[FR Doc. 01-7790 Filed 3-28-01; 8:45 am]

BILLING CODE 7590-01-P